DEPARTMENT OF STATE

[Public Notice: 7678]

Bureau of International Security and Nonproliferation; Termination of Chemical and Biological Weapons (CBW) Proliferation Sanctions Against a Foreign Person

AGENCY: Department of State.

ACTION: Notice.

SUMMARY: The United States Government has decided to terminate sanctions imposed on a foreign person who had engaged in CBW proliferation activities that required the imposition of sanctions pursuant to the Arms Export Control Act and the Export Administration Act of 1979.

DATES: Effective Date: Upon publication in the Federal Register.

FOR FURTHER INFORMATION CONTACT: Pamela K. Durham, Office of Missile, Biological, and Chemical Nonproliferation, Bureau of International Security and Nonproliferation, Department of State, Telephone (202) 647-4930.

SUPPLEMENTARY INFORMATION: Pursuant to Sections 81(d) of the Arms Export Control Act (22 U.S.C. 2798(d)) and Section 11C(d) of the Export Administration Act of 1979, as amended (50 U.S.C. app. 2410c(d)), the Under Secretary of State for Arms Control and International Security determined and certified to Congress that reliable information indicated that the following foreign person has ceased to aid or abet any foreign government, project, or entity in its efforts to acquire chemical or biological weapons capability:

Gerhard Merz

This determination and certification terminates the sanctions imposed on this foreign person in 1994 pursuant to Section 81(a) and (c) of the Arms Export Control Act and Section 11C(a) and (c) of the Export Administration Act. (Volume 59 FR Public Notice 2143)

Dated: November 1, 2011.
Thomas M. Countryman,
Assistant Secretary of State for International Security and Nonproliferation.

[FR Doc. 2011-28808 Filed 11-4-11; 8:45 am]

BILLING CODE 4710-27-P